DEPARTMENT OF HOUSING AND URBAN DEVELOPMENT

[Docket No. FR-5910-N-13]

Youth Homelessness Demonstration Program Application Notice of Emergency Approval of an Information Collection, and 60-Day Notice To Commence Extended Approval

AGENCY: Office of Community Planning and Development, HUD.

ACTION: Notice.

SUMMARY: HUD is announcing that it received approval from the Office of Management and Budget (OMB) under the Paperwork Reduction Act of 1995 (PRA) of the information collection in the application to obtain funding under HUD's Youth Homeless Demonstration Program (YHDP) Notice of Funding Availability (NOFA). In accordance with the implementing regulations of the PRA, HUD requested emergency review under 5 CFR 1320.13(a)(2)(i) because public harm was reasonably likely to occur if the regular clearance procedures were followed. OMB granted emergency approval in response to HUD's request.

While HUD has PRA approval for the YHDP NOFA application, HUD needs to establish traditional approval of this application (i.e. 3-year approval). Therefore, this notice, which solicits public comment for a period of 60 days, commences the process to obtain traditional approval under the PRA

DATES: Comments Due Date: November 1, 2016.

ADDRESSES: Interested persons are invited to submit comments regarding this proposal. Comments should refer to the proposal by name and should be sent to: HUD Desk Officer, Office of Management and Budget, New Executive Office Building, Washington, DC 20503; fax: 202-395-5806. Email: OIRA_Submission@omb.eop.gov.

FOR FURTHER INFORMATION CONTACT: Matthew Aronson, SNAPS Specialist, CPD, Department of Housing and Urban Development, 10 Causeway St., Boston, MA 02114; email Matthew Aronson at Matthew.K.Aronson@hud.gov or telephone 617-994-8408. This is not a toll-free number. Persons with hearing or speech impairments may access this number through TTY by calling the toll-free Federal Relay Service at (800) 877-8339. Copies of available documents submitted to OMB may be obtained from Mr. Aronson.

SUPPLEMENTARY INFORMATION: This notice informs the public that HUD has submitted to OMB a request for approval of the information collection described in section A. HUD's Youth Homeless Demonstration Program NOFA and accompanying application can be found at https://www.hudexchange.info/resources/documents/YHDP-NOFA.pdf.

A. Overview of Information Collection

Title of Information Collection: Youth Homelessness Demonstration Program Application.

OMB Approval Number: 2506-0210.

Type of Request: Renewal of previously approved collection.

Form Number: Youth Homelessness Demonstration Application (all parts), SF 424, HUD-2991, HUD-2993, HUD-2880, and SF-LLL, HUD-50070.

Description of the need for the information and proposed use: The appropriation for the Youth Homelessness Demonstration Program (YHDP) was made available through the Consolidated Appropriations Act, 2016 (Pub. L. 114-113, approved December 18, 2015), “the Act”. The Act appropriated $33,000,000 to HUD “to implement projects to demonstrate how a comprehensive approach to serving homeless youth, age 24 and under, in up to 10 communities, including at least four rural communities, can dramatically reduce youth homelessness,” $5 million to HUD “to provide technical assistance on youth homelessness, and collection, analysis, and reporting of data and performance measures under the comprehensive approaches to serve homeless youth, in addition to and in coordination with other technical assistance funds provided under this title,” and a further $2.5 million to HUD “for homeless youth program evaluations conducted in partnership with the Department of Health and Human Services.” Through this NOFA, HUD is holding a competition in order to identify those 10 communities that will make best use of the congressionally appropriated funds and provide HUD with the best opportunity to meet the YHDP objectives. Without asking for this information, HUD will be unable to meet the congressional mandate within the Act.

Once communities have been selected, HUD must collect individual grant applications to meet the Act requirement that YHDP projects be renewable under the Continuum of Care (CoC) Program authorized by the McKinney-Vento Act, as amended by S. 896 The Homeless Emergency Assistance and Rapid Transition to Housing (HEARTH) Act of 2009 (42 U.S.C. 11371 et seq.) and the CoC Program Homeless Assistance Grant Application requirements (OMB 2506-0112).

Finally, HUD must collect the Coordinated Community Plan to meet the appropriations requirement “to demonstrate how a comprehensive approach to serving homeless youth . . . can dramatically reduce youth homelessness.” In HUD's experience leading similar coordinated community efforts (e.g. LGBTQ Youth Homelessness Prevention Pilot, OMB 2506-0204), the planning process is a challenging and resource intensive endeavor, requiring systems analysis, values sharing, priority negotiating, the creation of leadership structure, the development of a logic model, and a plan for constant feedback and continuous process improvement, among other things. The submission of a coordinated community plan will allow HUD to assess the ability of the selected communities to appropriately use the funding made available by Congress.

Respondents (i.e. affected public): CoC collaborative applicants, which can be States, local governments, private nonprofit organizations, public housing authorities, and community mental health associations that are public nonprofit organizations.

Estimated Number of Respondents: 200 applicants 10 communities (project applications and plans).

Estimated Number of Responses: 200 community selection applications, 50 project applications, 10 community plans.

Frequency of Response: 1 community selection application per applicant, project applications per selected community, 1 community plan per selected community.

Average Hours per Response: 25 hours, 10 hours, 240.17 hours.

Total Estimated Burdens: 5,000 + 500 + 2,401.7 = 7,901.7 hours.

B. Solicitation of Public Comment

This notice is soliciting comments from members of the public and affected parties concerning the collection of information described in section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. chapter 35.

Dated: August 29, 2016.
Ann Marie Oliva,
Deputy Assistant Secretary for Special Needs.

[FR Doc. 2016-21106 Filed 9-1-16; 8:45 am]

BILLING CODE 4210-67-P